DEPARTMENT OF ENERGY

Federal Energy Regulatory Commission

18 CFR Part 284

[Docket No. RM96-1-040]

Standards for Business Practices of Interstate Natural Gas Pipelines

AGENCY: Federal Energy Regulatory Commission. DOE.

ACTION: Proposed rule; request for comment on filing.

SUMMARY: Take notice that on January 11, 2016, the North American Energy Standards Board (NAESB) filed a report with the Commission stating it had approved a minor correction to Standard No. 1.3.22 (ii) of Version 3.0 of the NAESB Wholesale Gas Quadrant standards, which were incorporated by reference in the Commission's regulations by order issued by the Commission on October 16, 2015. Comments are invited on whether to incorporate this minor correction by reference in the Commission's regulations.

DATES: Comments are due on or before February 10, 2016.

ADDRESSES: Comments, identified by docket number, may be filed in the following ways:

• Electronic Filing through http://www.ferc.gov. Documents created electronically using word processing software should be filed in native applications or print-to-PDF format and not in a scanned format.

• Mail/Hand Delivery: Those unable to file electronically may mail or hand-deliver comments to: Federal Energy Regulatory Commission, Secretary of the Commission, 888 First Street NE., Washington, DC 20426.

FOR FURTHER INFORMATION CONTACT: Gary D. Cohen (legal issues), Office of the General Counsel, Federal Energy Regulatory Commission, 888 First Street NE., Washington, DC 20426, Telephone: (202) 502-8321, Email: gary.cohen@ferc.gov.

SUPPLEMENTARY INFORMATION: Comments are requested on whether to incorporate by reference the following NAESB Wholesale Gas Quadrant Standard into § 284.12 of the Commission's regulations: Nominations Related Standards (Version 3.0, November 14, 2014, with minor corrections applied through June 29, 2015 and MC15021 effective November 25, 2015).

Office of Management and Budget Circular A-119 (section 11) (February 10, 1998) provides that federal agencies should publish a request for comment in a Notice of Proposed Rulemaking when the agency is seeking to issue or revise a regulation proposing to adopt a voluntary consensus standard or a government-unique standard. Standard 1.3.22 would be incorporated by reference.

The Office of the Federal Register requires agencies incorporating material by reference in final rules to discuss, in the preamble of the final rule, the ways that the materials it incorporates by reference are reasonably available to interested parties and how interested parties can obtain the materials.¹ The regulations also require agencies to summarize, in the preamble of the final rule, the material it incorporates by reference. Standard 1.3.22 (ii) establishes the scheduled quantity when no response is received for a request for confirmation. Our regulations provide that copies of the NAESB standards incorporated by reference may be obtained from the North American Energy Standards Board, 801 Travis Street, Suite 1675, Houston, TX 77002, Phone: (713) 356-0060. NAESB's Web site is at http://www.naesb.org/. Copies may be inspected at the Federal Energy Regulatory Commission, Public Reference and Files Maintenance Branch, 888 First Street NE., Washington, DC 20426, Phone: (202) 502-8371, http://www.ferc.gov.

¹ 1 CFR 51.5. See Incorporation by Reference, 79 FR 66267 (Nov. 7, 2014).

The procedures used by NAESB make its standards reasonably available to those affected by the Commission regulations, which is comprised of entities that have the means to acquire the information they need to effectively participate in Commission proceedings. Participants can join NAESB, for an annual membership cost of only $7,000, which entitles them to full participation in NAESB and enables them to obtain these standards at no additional cost.² Non-members who have purchased the standards may obtain the Minor Correction for free, non-members who have not purchased the standards may obtain the Standards Manual for standard 1.3.22 by email for $250 per Manual.³ Nonmembers also may obtain the complete set of Standards Manuals, Booklets, and Contracts on CD for $2,000. NAESB also provides a free electronic read-only version of the standards for a three business day period or, in the case of a regulatory comment period, through the end of the comment period.⁴ In addition, NAESB considers requests for waivers of the charges on a case-by-case basis depending on need.

² North American Energy Standards Board Membership Application, https://www.naesb.org/pdf4/naesbapp.pdf.

³ NAESB Materials Order Form, https://www.naesb.org//pdf/ordrform.pdf.

⁴ Procedures for non-members to evaluate work products before purchasing, https://www.naesb.org/misc/NAESB_Nonmember_Evaluation.pdf.

Dated: January 15, 2016.
Nathaniel J. Davis, Sr.,
Deputy Secretary.

[FR Doc. 2016-01237 Filed 1-21-16; 8:45 am]

BILLING CODE 6717-01-P